DEPARTMENT OF JUSTICE

Drug Enforcement Administration

Manufacturer of Controlled Substances; Notice of Application

Pursuant to § 1301.33(a) of Title 21 of the Code of Federal Regulations (CFR), this is notice that on November 12, 2007, Orasure Technologies, Inc., Lehigh University, Seeley G Mudd-Building 6, 220 East First Street, Bethlehem, Pennsylvania 18015, made application by renewal to the Drug Enforcement Administration (DEA) as a bulk manufacturer of the basic classes of controlled substances listed in schedules I and II:

Drug | Schedule
Tetrahydrocannabinols (THC) (7370) | I
4-Methoxyamphetamine (7411) | I
Normorphine (9313) | I
Amphetamine (1100) | II
Methamphetamine (1105) | II
Cocaine (9041) | II
Oxycodone (9143) | II
Hydromorphone (9150) | II
Benzoylecgonine (9180) | II
Hydrocodone (9193) | II
Meperidine (9230) | II
Methadone (9250) | II
Morphine (9300) | II

The company plans to manufacture the listed controlled substances in bulk to manufacture controlled substance derivatives. These derivatives will be used in diagnostic products created specifically for internal use only.

Any other such applicant and any person who is presently registered with DEA to manufacture such substances may file comments or objections to the issuance of the proposed registration pursuant to 21 CFR 1301.33(a).

Any such written comments or objections being sent via regular mail should be addressed, in quintuplicate, to the Drug Enforcement Administration, Office of Diversion Control, Federal Register Representative (ODL), Washington, DC 20537, or any being sent via express mail should be sent to Drug Enforcement Administration, Office of Diversion Control, Federal Register Representative (ODL), 8701 Morrissette Drive, Springfield, Virginia 22152; and must be filed no later than February 25, 2008.

Dated: December 17, 2007.
Joseph T. Rannazzisi,
Deputy Assistant Administrator, Office of Diversion Control, Drug Enforcement Administration.

[FR Doc. E7-25048 Filed 12-26-07; 8:45 am]

BILLING CODE 4410-09-P